ENVIRONMENTAL PROTECTION AGENCY

[ER-FRL-9034-9]

Environmental Impact Statements; Notice of Availability

Responsible Agency: Office of Federal Activities, General Information (202) 564-7146 or http://www.epa.gov/nepa.

Weekly receipt of Environmental Impact Statements (EISs)

Filed 08/21/2017 Through 08/25/2017

Pursuant to 40 CFR 1506.9.

Notice

Section 309(a) of the Clean Air Act requires that EPA make public its comments on EISs issued by other Federal agencies. EPA's comment letters on EISs are available at: http://www.epa.gov/compliance/nepa/eisdata.html.

EIS No. 20170165, Final, USFS, CA,Power Fire Reforestation, Review Period Ends: 10/02/2017, Contact: Marc Young 209-295-5955

EIS No. 20170166, Draft, BLM, NV,Greater Phoenix Project, Comment Period Ends: 10/16/2017, Contact: Christine Gabriel 775-635-4000

EIS No. 20170167, Final, DOC, CO,Nationwide Public Safety Broadband Network for the Central United States, Review Period Ends: 10/02/2017, Contact: Amanda Pereira 202-280-9364

EIS No. 20170168, Draft, Caltrans, CA,North County Corridor New State Route 108 Project and Route Adoption, Comment Period Ends: 10/16/2017, Contact: Juan Torres 559-445-6328

EIS No. 20170169, Draft, USACE, AK,Nanushuk Project, Comment Period Ends: 10/16/2017, Contact: Ellen Lyons 907-474-2169

EIS No. 20170170, Draft, USACE, TX,Houston Ship Channel Expansion Channel Improvement Project, Comment Period Ends: 10/16/2017, Contact: Kelly Burks-Copes 409-766-3044

EIS No. 20170171, Draft, FTA, CA,East San Fernando Valley Transit Corridor, Comment Period Ends: 10/16/2017, Contact: Candice Hughes 213-629-8613

Dated: August 28, 2017.
Dawn Roberts,
Management Analyst, NEPA Compliance Division, Office of Federal Activities.

[FR Doc. 2017-18604 Filed 8-31-17; 8:45 am]

BILLING CODE 6560-50-P